DEPARTMENT OF DEFENSE

Department of the Navy

[Docket ID: USN-2017-HQ-0002]

Submission for OMB Review; Comment Request

ACTION: 30-Day information collection notice.

SUMMARY: The Department of Defense has submitted to OMB for clearance, the following proposal for collection of information under the provisions of the Paperwork Reduction Act.

DATES: Consideration will be given to all comments received by September 5, 2017.

ADDRESSES: Comments and recommendations on the proposed information collection should be emailed to Ms. Jasmeet Seehra, DoD Desk Officer, at Oira_submission@omb.eop.gov. Please identify the proposed information collection by DoD Desk Officer and the Docket ID number and title of the information collection.

FOR FURTHER INFORMATION CONTACT: Fred Licari, 571-372-0493, or whs.mc-alex.esd.mbx.dd-dod-information-collections@mail.mil.

SUPPLEMENTARY INFORMATION:

Title, Associated Form and OMB Number: Law Enforcement Officers Safety Act (LEOSA); Department of the Navy Law Enforcement Officers Safety Act Credential Application (LEOSA); OMB Control Number 0703-XXXX.

Type of Request: New Collection.

Number of Respondents: 900.

Responses per Respondent: 1.

Annual Responses: 900.

Average Burden per Response: .05 hrs.

Annual Burden Hours: 450.

Needs and Uses: To verify eligibility of current DON Law enforcement officers for assigned duties and to determine if reassignment, reclassification, detail or other administrative action is warranted based on an officer's ability to obtain or maintain credential qualification requirements. To verify and validate eligibility of current, separating or separated and retired DON law enforcement officers to ship, transport, possess or receive Government-issued or private firearms or ammunition.

To verify and validate eligibility of current, separating or separated, and retired DON law enforcement officers to receive DON endorsed law enforcement credentials, to include LEOSA credentials. The information is captured for administrative, mission support and law enforcement/legal use; if required. The information collected allows the Department of the Navy to effectively and efficiently process, validate, issue and track LEOSA applications and issuances.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 03F09, Alexandria, VA 22350-3100.

Dated: July 31, 2017.
Aaron Siegel,
Alternate OSD Federal Register Liaison Officer, Department of Defense.

[FR Doc. 2017-16326 Filed 8-2-17; 8:45 am]

BILLING CODE 5001-06-P